DEPARTMENT OF COMMERCE

Bureau of Industry and Security

[Docket No. 030319065-3065-01]

Revisions to the Unverified List—Guidance as to “Red Flags” Under Supplement No. 3 to 15 CFR Part 732

AGENCY: Bureau of Industry and Security, Commerce.

ACTION: Notice.

SUMMARY: On June 14, 2002, the Bureau of Industry and Security (“BIS”) published a notice in the Federal Register that set forth a list of persons in foreign countries who were parties to past export transactions where pre-license checks (“PLC”) or post-shipment verifications (“PSV”) could not be conducted for reasons outside the control of the U.S. Government (“Unverified List”). The notice also advised exporters that the involvement of a listed person as a party to a proposed transaction constitutes a “red flag” as described in the guidance set forth in Supplement No. 3 to 15 CFR Part 732, requiring heightened scrutiny by the exporter before proceeding with such a transaction. The notice also stated that, when warranted, BIS would add and remove persons from the Unverified List.

This notice adds Brilliant Intervest to the Unverified List and removes Xian XR Aerocomponents Co., Ltd. from the Unverified List.

DATES: This notice is effective March 28, 2003.

FOR FURTHER INFORMATION CONTACT: Thomas W. Andrukonis, Office of Enforcement Analysis, Bureau of Industry and Security, Telephone: (202) 482-4255.

SUPPLEMENTARY INFORMATION: In administering export controls under the Export Administration Regulations (15 CFR parts 730 to 774) (“EAR”), BIS carries out a number of preventive enforcement activities with respect to individual export transactions. Such activities are intended to assess diversion risks, identify potential violations, verify end-uses, and determine the suitability of end-users to receive U.S. commodities or technology. In carrying out these activities, BIS officials, or officials of other Federal agencies acting on BIS's behalf, selectively conduct PLCs to verify the bona fides of the transaction and the suitability of the end-user or ultimate consignee. In addition, such officials sometimes carry out PSVs to ensure that U.S. exports have actually been delivered to the authorized end-user, are being used in a manner consistent with the terms of a license or license exception, and are otherwise consistent with the EAR.

In certain instances BIS officials, or other Federal officials acting on BIS's behalf, have been unable to perform a PLC or PSV with respect to certain export control transactions for reasons outside the control of the U.S. Government (including a lack of cooperation by the host government authority, the end-user, or the ultimate consignee). In a notice issued on June 14, 2002 (67 FR 40910), BIS set forth an Unverified List of certain foreign end-users and consignees involved in such transactions.

The June 14 notice also advised exporters that the participation of a person on the Unverified List in a proposed transaction will be considered by BIS to raise a “red flag” under the “Know Your Customer” guidance set forth in Supplement No. 3 to 15 CFR Part 732 of the EAR. Under that guidance, whenever there is a “red flag,” exporters have an affirmative duty to inquire, verify, or otherwise substantiate the proposed transaction to satisfy themselves that the transaction does not involve a proliferation activity set forth in 15 CFR part 744, and does not violate the EAR.

The Federal Register notice further stated that persons on the Unverified List would be added and removed from the list when warranted. BIS has attempted, and was unable to conduct, a PSV in transactions involving the following person: Brilliant Intervest, 14-1, Persian 65C, Jalan Pahang Barat, Kuala Lumpur, Malaysia 53000.

This notice advises exporters that Brilliant Intervest is added to the Unverified List, and a “red flag” now exists for transactions involving this person due to its inclusion on the Unverified List. As a result, exporters have an affirmative duty to inquire, verify, or otherwise substantiate the proposed transaction to satisfy themselves that the transaction does not involve a proliferation activity set forth in 15 CFR part 744, and does not violate the EAR.

In addition, BIS has now conducted a PSV in a transaction involving Xian XR Aerocomponents Co., Ltd., Xujiawen Beijiao, Xian, Shaanxi, People's Republic of China, (“Xian”), a person included on the Unverified List. This notice advises exporters that Xian is removed from the Unverified List, and the “red flag” resulting from Xian's inclusion on the Unverified List is rescinded.

The Unverified List, as modified by this notice, is set forth below.

Dated: March 24, 2003.
Lisa A. Prager,
Acting Assistant Secretary for Export Enforcement.

Unverified List as of March 28, 2003

The Unverified List includes names and countries of foreign persons who in the past were parties to a transaction with respect to which BIS could not conduct a pre-license check (“PLC”) or a post-shipment verification (“PSV”) for reasons outside of the U.S. Government's control. Any transaction to which a listed person is a party will be deemed by BIS to raise a “red flag” with respect to such transaction within the meaning of the guidance set forth in Supplement No. 3 to 15 CFR part 732. The “red flag” applies to the person on the Unverified List regardless of where the person is located in the country included on the list.

Name | Country | Last known address
Power Test & Research Institute of Guangzhou | People's Republic of China | No. 38 East Huangshi Road, Guangzhou.
Civil Airport Construction Corporation | People's Republic of China | 111 Bei Sihuan Str. East, Chao Yang District, Beijing.
Shaanxi Telecom Measuring Station | People's Republic of China | 39 Jixiang Road, Yanta District, Xian, Shaanxi.
Beijing San Zhong Electronic Equipment Engineer Co., Ltd | People's Republic of China | Hai Dian Fu Yuau, Men Hao 1 Hao, Beijing.
Huabei Petroleum, Administration Bureau, Logging Company | People's Republic of China | South Yanshan Road, Ren Qiu City, Hebei.
Yunma Aircraft Mfg | People's Republic of China | Yaopu, Anshun, Guizhou.
Daqing Production Logging Institute | People's Republic of China | No. 3 Fengshou Village, Sartu District, Daqing City, Heilongjiang.
Dee Communications M SDN.BHD | Malaysia | G5/G6, Ground Floor, Jin Gereja, Johor Bahru.
Brilliant Intervest | Malaysia | 14-1, Persian 65C, Jalan Pahang Barat, Kuala Lumpur, 53000.
Arrow Electronics | United Arab Emirates | 204 Arbift Tower, Benyas Road, Dubai.

[FR Doc. 03-7484 Filed 3-27-03; 8:45 am]

BILLING CODE 3510-33-P